DEPARTMENT OF JUSTICE

Federal Bureau of Investigation

Meeting of the Compact Council for the National Crime Prevention and Privacy Compact

AGENCY: Federal Bureau of Investigation.

ACTION: Meeting notice.

SUMMARY: The purpose of this notice is to announce a meeting of the National Crime Prevention and Privacy Compact Council (Council) created by the National Crime Prevention and Privacy Compact Act of 1998 (Compact). Thus far, the Federal Government and 27 states are parties to the Compact which governs the exchange of criminal history records for licensing, employment, and similar purposes. The Compact also provides a legal framework for the establishment of a cooperative federal-state system to exchange such records.

The United States Attorney General appointed 15 persons from federal and state agencies to serve on the Council. The Council will prescribe system rules and procedures for the effective and proper operation of the Interstate Identification Index System.

Matters for discussion are expected to include:

(1) Compact council Strategic Plan.

(2) Auditing Guidelines for the Integrated Automated Fingerprint Identification System (IAFIS) Audit of Noncriminal Justice Use of Criminal History Record Information.

(3) FBI Consideration of the National Fingerprint File Program as Related to the Next Generation IAFIS Initiatives.

The meeting will be open to the public on a first-come, first-seated basis. Any member of the public wishing to file a written statement with the Council or wishing to address this session of the council should notify Mr. Todd C. Commodore at (304) 625-2803, at least 24 hours prior to the start of the session. The notification should contain the requestor's name and corporate designation, consumer affiliation, or government designation, along with a short statement describing the topic to be addressed and the time needed for the presentation. Requesters will ordinarily be allowed up to 15 minutes to present a topic.

DATES: The Council will meet in open session from 9 a.m. until 5 p.m., on November 7-8, 2007.

ADDRESSES: The meeting will take place at the Renaissance Las Vegas Hotel, 3400 Paradise Road, Las Vegas, Nevada, telephone (866) 352-3434.

FOR FURTHER INFORMATION CONTACT: Inquiries may be addressed to Mr. Todd C. Commodore, FBI Compact Officer, Compact Council Office, Module B3, 1000 Custer Hollow Road, Clarksburg, West Virginia 26306-0148, telephone (304) 625-2803, facsimile (304) 625-2539.

Dated: October 4, 2007.
Robert J. Casey,
Section Chief, Liaison, Advisory, Training and Statistics Section, Criminal Justice Information Services Division, Federal Bureau of Investigation.

[FR Doc. 07-5154 Filed 10-18-07; 8:45 am]

BILLING CODE 4410-02-M